DEPARTMENT OF TRANSPORTATION

Federal Aviation Administration

14 CFR Part 71

[Docket No. FAA-2007-28771; Airspace Docket No. 07-ACE-8]

Modification of Class E Airspace; Fort Scott, KS

AGENCY: Federal Aviation Administration (FAA), DOT.

ACTION: Direct final rule; confirmation of effective date and correction.

SUMMARY: This document confirms the effective date of the direct final rule which revises Class E airspace at Fort Scott, KS and corrects the coordinates of the Fort Scott Nondirectional Beacon (NDB).

DATES: Effective Date: 0901 UTC, December 20, 2007. The Director of the Federal Register approves this incorporation by reference action under title 1, Code of Federal Regulations, part 51, subject to the annual revision of FAA Order 7400.9 and publication of conforming amendments.

FOR FURTHER INFORMATION CONTACT: Grant Nichols, System Support, DOT Regional Headquarters Building, Federal Aviation Administration, 901 Locust, Kansas City, MO 64106; telephone: (816) 329-2522.

SUPPLEMENTARY INFORMATION: The FAA published this direct final rule with a request for comments in the Federal Register on Friday, August 10, 2007 (72 FR 44954). The FAA uses the direct final rulemaking procedure for a non-controversial rule where the FAA believes that there will be no adverse public comment. This direct final rule advised the public that no adverse comments were anticipated, and that unless a written adverse comment, or a written notice of intent of submit such an adverse comment, were received within the comment period, the regulation would become effective on December 20, 2007. No adverse comments were received, and thus this notice confirms that this direct final rule will become effective on that date.

Class E airspace areas extending upward from 700 feet or more above the surface of the earth are published in Paragraph 6005 of FAA Order 7400.9R, Airspace Designations and Reporting Points, signed August 15, 2007, and effective September 15, 2007, which is incorporated by reference in 14 CFR 71.1. The Class E airspace designation listed in this document will be published subsequently in the Order.

Correction to Final Rule

In the description of the airspace contained in the direct final rule, the coordinates of the Fort Scott NDB were incorrectly published. This action makes this editorial correction, which does not change the airspace configuration. The FAA is republishing the entire airspace description.

Accordingly, pursuant to the authority delegated to me, the airspace published in the Federal Register, Friday, August 10, 2007 (72 FR 44954), Airspace Docket No. 07-ACE-8, page 44955 is corrected as follows:

§ 71.1 [Amended]

* * * * *

ACE KS E5 Fort Scott, KS [Corrected]

Fort Scott Municipal Airport, KS

(Lat. 37°47′54″ N., long. 94°46′10″ W.)

Fort Scott NDB

(Lat. 37°47′49″ N., long. 94°45′56″ W.)

That airspace extending upward from 700 feet above the surface within a 7.0-mile radius of Fort Scott Municipal Airport and within 2.6 miles each side of the 350° bearing from Fort Scott NDB extending from the 7.0-mile radius of the airport to 7 miles north of the NDB.

* * * * *

Issued in Fort Worth, Texas on October 24, 2007.
Richard H. Farrell, III,
Acting Manager, System Support Group, ATO Central Service Center.

[FR Doc. 07-5454 Filed 11-2-07; 8:45 am]

BILLING CODE 4910-13-M